DEPARTMENT OF HOUSING AND URBAN DEVELOPMENT

[Docket No. FR-7001-N-50]

30-Day Notice of Proposed Information Collection: Rent Reform Demonstration: 36-Month Follow-Up Survey and Comprehensive Impact Analysis

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: October 15, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA_Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on January 23, 2018 at 83 FR 3178.

A. Overview of Information Collection

Title of Information Collection: Rent Reform Demonstration: 36-Month Follow-Up Survey and Comprehensive Impact Analysis.

OMB Approval Number: 2528-0306.

Type of Request: Revision.

Form Number: N/A.

Description of the Need for the Information and Proposed Use: The U.S. Department of Housing and Urban Development (HUD) is conducting the Rent Reform Demonstration under contract with MDRC and its subcontractors (The Bronner Group, Quadel Consulting Corporation, and the Urban Institute). The 36-month follow-up survey will be conducted by a survey contractor. The project is a random assignment trial of an alternative rent system. In 2015 and 2016, 6,660 families were randomly assigned to either participate in the new/alternative rent system or to continue in the current system. For voucher holders, outcomes of the alternative system are hypothesized to be increases in earnings, employment and job retention, among others. Random assignment limits the extent to which selection bias drives observed results. The demonstration will document the progress of a group of housing voucher holders, who were drawn from current residents at the four Moving to Work (MTW) Demonstration public housing agencies (PHAs) that are participating in the Rent Reform Demonstration:

(1) Lexington Housing Authority (LHA), Lexington, Kentucky;

(2) Louisville Metro Housing Authority (LMHA), Louisville, Kentucky;

(3) San Antonio Housing Authority (SAHA), San Antonio, Texas; and

(4) District of Columbia Housing Authority (DCHA), Washington, DC

The impact evaluation's intent is to gain an understanding of the impact of the alternative rent system on the families as well as the administrative burden on Public Housing Agencies (PHAs). Data collection will include the families that are part of the treatment and control groups, as well as PHA staff. Data for this evaluation will be gathered through a variety of methods including informational interviews, direct observation, surveys, and analysis of administrative records. The work covered under this information request is for the 36-month follow-up survey that will document and contextualize administrative data findings related to employment, earnings, and hardship and study participants' experience with the demonstration.

Estimated total number of hours needed to prepare the information collection including number of respondents, frequency of response, hours of response, and cost of response time:

Information collection | Number of respondents | Frequency of response | Responses per annum | Burden hour per response | Annual burden hours | Hourly cost per response | Annual cost
Consent Form | 6,659.00 | 1.00 | 6,659.00 | 0.05 | 333.00 | $8.96 | $2,983.68
Long-term Follow-up Survey | 6,659.00 | 1.00 | 6,659.00 | 0.50 | 3,330.00 | 8.96 | 29,836.80
Housing Authority Database Extraction Activities | 4.00 | 1.00 | 4.00 | 1.00 | 4.00 | 36.33 | 145.32
Total | 13,322.00 |  |  |  | 3,667.00 |  | 32,965.80

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority:

Section 3507 of the Paperwork Reduction Act of 1995, 44 U.S.C. Chapter 35.

Dated: August 31, 2018.
Anna P. Guido,
Department Reports Management Officer, Office of the Chief Information Officer.

[FR Doc. 2018-19875 Filed 9-12-18; 8:45 am]

BILLING CODE 4210-67-P